DEPARTMENT OF HOMELAND SECURITY

U.S. Customs and Border Protection

Modification of the National Customs Automation Program Test Concerning the Submission of Global Business Identifiers

AGENCY: U.S. Customs and Border Protection, Department of Homeland Security.

ACTION: General notice.

SUMMARY: On February 12, 2024, U.S. Customs and Border Protection (CBP) published a notice in the Federal Register extending and modifying a National Customs Automation Program Test concerning the submission of unique entity identifiers for the Global Business Identifier (GBI) Evaluative Proof of Concept (EPoC). This document republishes and supersedes that notice, renames the GBI EPoC to the Global Business Identifier Test (GBI Test), adds Altana Technologies USG Inc. (Altana) as a new Identity Management Company (IMC), and establishes a process for other IMCs to support CBP in the test.

DATES: The GBI Test will continue through February 23, 2027, subject to any extension, modification, or early termination as announced in the Federal Register. CBP continues to accept requests from importers of record and licensed customs brokers to participate in the test until the GBI Test concludes. Public comments on the test are invited and may be submitted to GBI@cbp.dhs.gov, at any time during the test period.

FOR FURTHER INFORMATION CONTACT: For policy-related questions, contact Garrett Wright, Director, Trade Modernization Division, Trade Policy and Programs Directorate, Office of Trade, U.S. Customs and Border Protection, at (202) 897-9877 or via email at GBI@cbp.dhs.gov, with a subject line reading “Global Business Identifier Test-GBI.” For technical questions related to the Automated Commercial Environment (ACE) or Automated Broker Interface (ABI) transmissions, importers of record and licensed customs brokers should contact their assigned ACE or ABI client representatives, respectively. Interested parties without an assigned client representative should direct their questions to Tonya Perez, Director, Client Services Division, Office of Trade, U.S. Customs and Border Protection, at (571) 421-7477 or via email at clientrepoutreach@cbp.dhs.gov.

SUPPLEMENTARY INFORMATION: On December 2, 2022, U.S. Customs and Border Protection (CBP) published a General Notice (the December 2022 Notice) in the Federal Register (87 FR 74157) announcing a National Customs Automation Program (NCAP) Test concerning the submission through the Automated Commercial Environment (ACE) of certain unique entity identifiers for the Global Business Identifier (GBI) Evaluative Proof of Concept (EPoC). On July 21, 2023, CBP published a General Notice (the July 2023 Notice) in the Federal Register (88 FR 47154) extending and modifying the December 2022 Notice. Specifically, the July 2023 Notice extended the test period from July 21, 2023 through February 14, 2024; provided the correct web address for interested parties to use to obtain the Legal Entity Identifier (LEI) from the Global Legal Entity Identifier Foundation (GLEIF); and clarified that CBP would allow participants to provide one or more of the three identifiers for the manufacturers, shippers, and sellers (and optionally, exporters, distributors, and packagers) of merchandise, and that CBP would not require transmission of all three identifiers to participate in the test. On February 12, 2024, CBP published a General Notice (the February 2024 Notice) in the Federal Register (89 FR 9859) announcing an extension of the test period through February 23, 2027, noting a clarification in the purpose and scope of the GBI EPoC, removing the commodity and country of origin limitations on the entries eligible for the test, making changes to the contact information for questions regarding the test, providing new web addresses dedicated to obtaining GBIs, and making minor technical corrections. This document republishes and supersedes the February 2024 Notice, with the following modifications.

First, CBP is renaming the test from the “Global Business Identifier Evaluative Proof of Concept” and the resulting acronym “GBI EPoC,” to the “Global Business Identifier Test” and “GBI Test,” to align with the regulatory definition of a test under section 101.9 of title 19 of the Code of Federal Regulations (19 CFR 101.9). Second, CBP is announcing that it has entered into an agreement with Altana Technologies USG Inc. (Altana) to serve as an identity management company (IMC) and has added Altana to the list of existing IMCs: Dun & Bradstreet (D&B), GS1, and the Global Legal Entity Identifier Foundation (GLEIF). Background subsection I.B now provides that test participants may include identifiers provided by Altana in the field assigned to any one of the three current GBIs.

Third, CBP is modifying subsection III.A by adding reference to Altana throughout the subsection and including the Altana web address for test participants' use when contacting Altana, adding the Altana ID as a fourth identifier, and adding Altana as a fourth IMC. Fourth, this notice is further modifying subsection III.B by dividing the section into two subsections, with subsection 1 providing guidance to importers of record and licensed customs brokers wishing to participate in the GBI Test, and subsection 2 providing guidance to identifier and traceability companies that are interested in supporting CBP by becoming GBI Test IMCs.

For ease of reference, the February 2024 Notice is republished below, with the changes described above.

I. Background

A. The National Customs Automation Program

The National Customs Automation Program (NCAP) was established by Subtitle B of Title VI—Customs Modernization, in the North American Free Trade Agreement Implementation Act (Customs Modernization Act) (Pub. L. 103-182, 107 Stat. 2057, 2170, December 8, 1993) (19 U.S.C. 1411). Through the NCAP, the thrust of customs modernization was focused on informed trade compliance and the development of the Automated Commercial Environment (ACE), the planned successor to the Automated Commercial System (ACS). ACE is an automated and electronic data interchange system for commercial trade processing, intended to streamline business processes, facilitate growth in trade, ensure cargo security, and foster participation in global commerce, while facilitating compliance with U.S. laws and regulations and reducing costs for U.S. Customs and Border Protection (CBP) and all of its communities of interest. The ability to meet these objectives depends on successfully modernizing CBP's business functions and the information technology that supports those functions. CBP's modernization efforts are accomplished through phased releases of ACE component functionality, which update the system and add new functionality.

Sections 411 through 414 of the Tariff Act of 1930 (19 U.S.C. 1411-1414), as amended, define and list the existing and planned components of the NCAP (Section 411), promulgate program goals (Section 412), provide for the implementation and evaluation of the program (Section 413), and provide for Remote Location Filing (Section 414). Section 411(a)(1)(A) lists the electronic entry of merchandise, Section 411(a)(1)(B) lists the electronic entry summary of required information, and Section 411(a)(1)(D) lists the electronic transmission of manifest information, as existing NCAP components. Section 411(d)(2)(A) provides for the periodic review of data elements collected in order to update the standard set of data elements, as necessary.

B. Global Business Identifier (GBI) Test

ACE is the system through which the U.S. Government has implemented the “Single Window,” the primary system for processing trade-related import and export data required by the Partner Government Agencies (PGAs) that work alongside CBP in regulating specific commodities. The transition away from paper-based procedures has resulted in faster, more streamlined processes for both the U.S. Government and industry. To continue this progress, CBP began working with the Border Interagency Executive Council (BIEC) and the Commercial Customs Operations Advisory Committee (COAC), starting in 2017, to discuss the continuing viability of the data element known as the manufacturer or shipper identification code (MID).

Currently, importers of record provide the MID at the time of filing of the entry summary. See generally 19 CFR part 142. The 13-digit MID is derived from the name and address of the manufacturer or shipper, as specified on the commercial invoice, by applying a code constructed pursuant to instructions specified by CBP. See Customs Directive No. 3550-055, dated November 24, 1986 (available online at https://www.cbp.gov/sites/default/files/documents/3550-055_3.pdf). Although use of the MID has served CBP and the international trade community well in the past, it has become apparent that the MID is not always a consistent or unique number. For example, the MID is based upon the manufacturer or shipper name, address, and country of origin, and this data can change over time and/or result in the same MID for multiple entities. Also, while the MID provides limited identifying information, other global unique identifiers capture a broader swath of pertinent information regarding the entities with which they are associated (e.g., legal ownership of businesses, specific business and global locations, and supply chain roles and functions). Changes in international trade and technology for tracking the flow of commodities have presented an opportunity for CBP and PGAs to explore new processes and procedures for identifying the parties involved in the supply chains of imported goods.

CBP has thus engaged in regular outreach with stakeholders, including, but not limited to, importers of record, licensed customs brokers, trade associations, and PGAs, with a goal of obtaining meaningful feedback on their existing systems and operations in order to establish a mutually beneficial global entity identifier system. As a result of these discussions, CBP developed the Global Business Identifier (GBI) Test, which is an interagency trade transformation project that aims to test global business identifiers as a supply chain traceability solution, for industry and the U.S. Government alike. The GBI Test seeks to amplify the U.S. Government's visibility into the supply chain of goods entering the United States and explore opportunities for CBP and PGAs to leverage verifiable information regarding parties in the supply chain to improve risk assessment and admissibility decisions.

For purposes of the GBI Test, ACE has been modified to permit test participants to provide the following entity identifiers (GBIs) associated with manufacturers, shippers, sellers, exporters, distributors, and packagers of merchandise covered by entries that meet the GBI Test criteria described in this notice: nine (9)-digit Data Universal Numbering System (D-U-N-S®), thirteen (13)-digit Global Location Number (GLN), twenty (20)-digit Legal Entity Identifier (LEI), and twenty (20)-digit Altana ID identifier. These GBIs will be provided to CBP, through ACE, in addition to other required entry data (which may include the MID); any GBIs associated with the importer of record itself need not be provided as part of this test. The GBIs associated with the manufacturers, shippers and sellers will be provided with the CBP Form 3461 (Entry/Immediate Delivery) data transmission via the Automated Broker Interface (ABI) in ACE for certain formal entries for consumption (“entry type 01” in ACE) and informal entries (“entry type 11” in ACE). CBP will then access the underlying data (GBI data) associated with the D-U-N-S®, GLN, LEI, and Altana ID, as set forth in the agreements that CBP has entered into with D&B, GS1, GLEIF, and Altana, respectively, in order to connect a specific entry and merchandise to a more complete picture of those entities' ownership, structure, and affiliations, among other information. D&B, GS1, GLEIF, and Altana are collectively referred to as the IMCs.

Through the GBI Test, CBP aims to leverage existing entity identifiers—the D-U-N-S®, GLN, LEI, and Altana ID—to develop a systematic, accurate, and efficient method for the trade to report, and the U.S. Government to uniquely identify, legal business entities, their different business locations and addresses, and their various functions and supply chain roles. CBP will review whether these GBIs ensure that CBP and PGAs receive standardized trade data in a universally compatible trade language. Moreover, CBP will examine whether the GBIs submitted to CBP can be easily verified, thus reducing uncertainties that may be associated with the information related to shipments of imported merchandise. CBP will also consider whether the GBI Test may ultimately prove to be a more far-reaching, interagency initiative, one that keeps with the vision and actualized promise of the “Single Window,” by providing better visibility into the supply chain for CBP and PGAs, thereby further reducing paper processing, expediting cargo release, and enhancing the traceability of supply chains. As it pursues this broader traceability vision, CBP will continue to explore the merits of the identifiers mentioned in this notice.

II. Authorization for the Test

The Customs Modernization Act authorizes the Commissioner of CBP to conduct limited test programs or procedures designed to evaluate planned components of the NCAP. The GBI Test is authorized pursuant to 19 CFR 101.9(b), which provides for the testing of NCAP programs or procedures. See T.D. 95-21, 60 FR 14211 (March 16, 1995).

III. Conditions for the Test

The test is voluntary, and importers of record and licensed customs brokers who wish to participate in the test must comply with all of the conditions set forth below. The full effect of access to additional entity-related data based on submission of the GBIs will be a key evaluation metric of the test.

Participation in the test may provide certain opportunities to participants while also allowing for a more efficient deployment of CBP enforcement measures. First, participation may enable test participants to better secure their supply chains by assisting the trade industry with authenticating and verifying supply chain actors, helping companies to manage risk in their supply chains, and assisting with compliance with emerging requirements and mandates. Second, participation may assist with determining how CBP and PGAs can leverage global business identifiers to drive harmonized risk decision-making across the U.S. Government—thereby enhancing predictability, lowering costs, and creating opportunity for additional efficiencies for compliant trade. Third, participation may provide an opportunity to shape the future of GBI-enabled traceability. Participant feedback shared throughout the GBI Test will inform the ongoing evolution of GBI, including enhancements to better meet industry and government's supply chain traceability needs. Lastly, participation may result in the streamlined processing of legitimate trade. Identifiers may provide CBP with more valuable data with which to assess and identify low-risk and generally compliant imports, thereby better positioning CBP to efficiently process lawful goods and focus resources toward preventing violative goods from entering the United States. For example, identifiers may be leveraged to demonstrate that a supply chain is low-risk, to potentially reduce detentions for low-risk traders that have provided CBP with extensive visibility into their supply chains, and to resolve requests for additional information from CBP earlier on in the importation process.

A. Obtaining Global Business Identifier (GBI) Numbers

Importers of record and licensed customs brokers who are interested in participating in the test must arrange to obtain any combination of the required D-U-N-S®, GLN, LEI, and/or Altana ID entity identifiers (the GBIs) from the manufacturers, shippers, and sellers of merchandise that are intended to be covered by future entries that will meet the conditions of the test. For purposes of providing the information required for the test, the parties are defined as follows for each covered entry:

• Manufacturer (or supplier)—The party that last manufactures, assembles, produces, or grows the goods or the party supplying the finished goods in the country from which the goods are leaving for the United States.

• Shipper—The party that enters into a contract for carriage with, and arranges for delivery of the goods to, a carrier or transport intermediary for transportation to the United States.

• Seller—The last known party by whom the goods are sold or agreed to be sold. If the goods are to be imported otherwise than in pursuance of a purchase, the owner of the goods must be provided.

Optionally, test participants may also arrange to obtain the GBIs for exporters, distributors, and packagers that will be associated with these future entries and provide them to CBP on qualifying entries covered by this test.

A party may obtain its own GBI by contacting Dun and Bradstreet (D&B) at https://www.dnb.com/duns-number.html, regarding the D-U-N-S®; GS1 at https://www.gs1.org/standards/id-keys/gln, regarding the GLN; the Global Legal Entity Identifier Foundation (GLEIF) at https://www.gleif.org/en/about-lei/get-an-lei-find-lei-issuing-organizations, regarding the LEI, and Altana Technologies USG Inc. (Altana) at http://altana.ai, regarding the Altana ID.

Once the manufacturers, shippers, and sellers (and, optionally, the exporters, distributors, and packagers) have obtained their own GBIs (the D-U-N-S®, GLN, LEI, and Altana ID), these parties should provide the resulting GBIs to the relevant importer of record or licensed customs broker participating in the test. If these parties experience any difficulty with obtaining any of the GBIs, the importer of record or licensed customs broker seeking to participate in the test should reach out to CBP by email at GBI@cbp.dhs.gov. The test participant is not required to obtain or submit GBIs pertaining to its own entity.

Importers of record and licensed customs brokers are reminded that they are responsible for obtaining any necessary permissions with respect to providing to CBP the GBIs for manufacturers, shippers, and sellers (and, optionally, for exporters, distributors, and packagers) in the supply chains of the imported merchandise for which they file the specified types of entries subject to the conditions of the test. Therefore, prior to submitting their request to participate in the test to CBP, as discussed below, importers of record and licensed customs brokers should consult with these parties to ensure that these parties are willing to grant any necessary permissions to share their GBIs under the auspices of the test (which will also result in CBP's access to the underlying GBI data associated with those GBIs, as described above).

B. Submission of Request To Participate in the GBI Test

1. Importers of Record and Licensed Customs Brokers

The test is open to all importers of record and licensed customs brokers provided that these parties have requested permission and are approved by CBP to participate in the test. Importers of record and licensed customs brokers seeking to participate in the test should send an email to the GBI Inbox (GBI@cbp.dhs.gov) with the subject heading “Request to Participate in the GBI Test.” As part of their request to participate, importers of record and licensed customs brokers must agree to provide available GBIs with entry filings for merchandise that is subject to the conditions of the test and state that they intend to participate in the test. The request must include the potential participant's filer code and evidence that it has obtained at least one of the four identifiers (D-U-N-S®, GLN, LEI, or Altana ID), or is in the process of obtaining an identifier, from some combination of the manufacturers, shippers, and sellers (and, optionally, exporters, distributors, and packagers) of merchandise to be entered with a GBI(s) provided pursuant to the test.

Test participants who are importers of record and do not self-file must advise CBP in their request that they have authorized their licensed customs broker(s) to file qualifying entries under the test on their behalf. Test participants who are licensed customs brokers must advise CBP that they have been authorized to file qualifying entries on behalf of importers of record whose shipments meet the test criteria as set forth below.

CBP began accepting requests to participate in the test on December 2, 2022, and will continue to accept requests until the test concludes. Anyone providing incomplete information, or otherwise not meeting the test requirements, will be notified by email, and may be given the opportunity to resubmit the request to participate in the test.

2. Identity Management Companies (IMCs)

Identity and supply chain traceability companies interested in becoming IMCs should send an email to the GBI Inbox (GBI@cbp.dhs.gov) with the subject heading “IMC Request to Support the GBI Test.” As part of their request, interested companies must indicate whether they have existing clientele, adequate systems capability to provide identifier data to CBP, and the ability to enable regular and consistent transmission of traceability information on a per entry basis. IMCs must have the ability to capture and communicate changes pertaining to embedded identifier data and must permit CBP to access the version history associated with a supply chain party's identifier. Should CBP determine to proceed in permitting a company to support the GBI Test as an IMC, the company must enter into an agreement with CBP regarding the provision of the GBI data for purposes of the GBI Test.

C. Approval of Importers of Record and Licensed Customs Brokers as GBI Test Participants

A party who wishes to participate in this test is eligible to do so as long as it is an importer of record or licensed customs broker who files type 01 (formal) or type 11 (informal) entries of merchandise, and that party obtains one or more GBIs from its supply chain partners. After receipt of a request to participate in the test, CBP will notify, by email, the importers of record and licensed customs brokers who are approved for participation and inform them of the starting date of their participation (noting that test participants may have different starting dates). Test participants must provide the GBIs they have received to CBP prior to the starting date of their participation (participants will also provide the GBIs to CBP again with each qualified entry filing meeting the requirements of the test). Test participants are considered to be bound by the terms and conditions of this notice and any subsequent modifications published in the Federal Register.

D. Criteria for Qualifying Entries

1. Commodities Subject to the GBI Test

The test will be limited to type 01 and type 11 entries and is open to merchandise classifiable in any subheading of the Harmonized Tariff Schedule of the United States (HTSUS). Test participants are encouraged to submit GBIs with all qualified entry filings that meet the conditions of the test so that CBP has a fulsome data set to evaluate; however, entries will not be rejected if GBIs are not submitted.

2. Countries of Origin Subject to the GBI Test

The test is open to merchandise from any country of origin.

E. Filing Entries With GBIs (Via ABI in ACE)

Test participants must coordinate with their software vendors or technical teams to ensure that their electronic systems are capable of transmitting the D-U-N-S®, GLN, LEI, and Altana ID entity identifiers to CBP. During this test, CBP will only accept electronic submissions of GBIs via ABI in ACE with CBP Form 3461 (Entry/Immediate Delivery) filings for type 01 and type 11 entries. Upon selection to participate in the test, the test participants will be provided with technical information and guidance regarding the transmission of the GBIs to CBP with the CBP Form 3461 filings. The assigned ABI client representatives of the test participants will provide additional technical support, as needed. Pending programming updates, test participants may include an Altana ID identifier in the field assigned to any one of the three other GBIs. The D-U-N-S®, GLN, and LEI identifiers can continue to be inputted via their respective fields.

F. CBP Access to Underlying GBI Data Associated With GBIs

As part of the test, CBP has entered into agreements with D&B, GS1, GLEIF, and Altana (the IMCs) for limited access to the underlying data (GBI data) that is associated with the GBIs for the duration of the test and for testing of CBP's automated systems.¹ The data elements for which CBP has entered into agreements with D&B, GS1, GLEIF, and Altana may include, but are not limited to: (1) entity identifier numbers, (2) official business titles; (3) names; (4) addresses; (5) financial data; (6) trade names; (7) payment history; (8) economic status; and (9) executive names. The data elements will be examined as part of the test.

¹ As noted above, D&B, GS1, GLEIF, and Altana are IMCs. The GBI data consists of data provided by the relevant entity to the IMCs in order to generate a GBI—the D-U-N-S®, GLN, LEI, or Altana ID. GBIs allow CBP to link the underlying GBI data to specific entities and entries.

Consistent with the agreements, CBP may access GBI data, combine it with CBP data, and evaluate the GBIs that the test participants provide with an entry filing. The GBI data will assist CBP and PGAs in determining the optimal identifiers (the GBIs) that will provide the U.S. Government with sufficient entity data needed to support identification, monitoring, and enforcement procedures to better equip the U.S. Government to focus on high-risk shipments and bad actors.

CBP will process entries submitted with a GBI(s) pursuant to the test by analyzing the GBIs submitted via ABI in ACE and ensuring that the GBIs are submitted correctly. CBP will then evaluate the submitted entries to assess the ease and cost of obtaining each of the GBIs, evaluating each GBI to ensure that it is being submitted properly per the technical requirements that will be set forth in CBP and Trade Automated Interface Requirements (CATAIR), and ensuring that CBP is able to validate that each GBI is accurate using the underlying GBI data from the IMCs or otherwise known to CBP.

G. Partner Government Agencies (PGAs)

PGAs are important to the success of the test. Certain PGAs, which may receive GBIs and GBI data and are intended as core test beneficiaries, may use the GBIs and GBI data to improve risk management and import compliance. This may result in smarter, more efficient, and more effective compliance efforts. CBP will announce the PGAs who will receive GBIs and GBI data pursuant to the test in a notice to be published in the Federal Register at a later date.

H. Duration of Test

The test began on December 19, 2022, and will run through February 23, 2027, subject to any extensions, modifications or early termination as announced by way of a notice to be published in the Federal Register.

I. Misconduct Under the Test

Misconduct under the test may include, but is not limited to, submitting false GBIs with an entry filing. CBP does not anticipate shipment delays due to the failure to file or the erroneous filing of GBIs. However, test participants are expected to follow all other applicable regulations and requirements associated with the entry process.

After an initial six-month period (or at such earlier time as CBP deems appropriate), a test participant may be subject to discontinuance from participation in this test for any of the following actions:

• Failure to follow the terms and conditions of this test;

• Failure to exercise due diligence in the execution of participant obligations;

• Failure to abide by applicable laws and regulations that have not been waived; or

• Failure to deposit duties or fees in a timely manner.

If the Director, Trade Modernization Division (TMOD), Trade Policy and Programs (TPP), Office of Trade (OT), finds that there is a basis to discontinue a participant's participation in the test, then CBP will provide written notice, via email, proposing the discontinuance with a description of the facts or conduct supporting the proposal. The test participant will be offered the opportunity to respond to the Director's proposal in writing within 10 business days of the date of the written notice. The response must be sent to the Director, TMOD, TPP, OT, by email to GBI@cbp.dhs.gov, with a subject line reading “Appeal—GBI Discontinuance.”

The Director, TMOD, will issue a final decision in writing on the proposed action within 30 business days after receiving a timely filed response from the test participant, unless such time is extended for good cause. If no timely response is received, the proposed notice becomes the final decision of CBP as of the date that the response period expires. A proposed discontinuance of a test participant's privileges will not take effect unless the response process under this paragraph has been concluded with a written decision that is adverse to the test participant, which will be provided via email.

J. Confidentiality

Data submitted and entered into ACE may include confidential commercial or financial information which may be protected under the Trade Secrets Act (18 U.S.C. 1905), the Freedom of Information Act (5 U.S.C. 552), and the Privacy Act (5 U.S.C. 552a). However, as stated in previous notices, participation in this or any of the previous ACE tests is not confidential and, therefore, upon receipt of a written Freedom of Information Act request, the name(s) of an approved participant(s) will be disclosed by CBP in accordance with 5 U.S.C. 552.

IV. Comments on the Test

All interested parties are invited to comment on any aspect of this test at any time. CBP requests comments and feedback on all aspects of this test, including the design, conduct and implementation of the test, in order to determine whether to modify, alter, expand, limit, continue, end, or fully implement this program. Comments should be submitted via email to GBI@cbp.dhs.gov, with the subject line reading “Comments/Questions on GBI Test.”

V. Paperwork Reduction Act

The Paperwork Reduction Act (PRA) of 1995 (44 U.S.C. 3507(d)) requires that CBP consider the impact of paperwork and other information collection burdens imposed on the public. An agency may not conduct, and a person is not required to respond to, a collection of information unless the collection of information displays a valid control number assigned by the Office of Management and Budget (OMB).

The collection of GBI information gathered under this test has been approved by OMB in accordance with the requirements of the PRA under OMB control number 1651-0141. In addition, the Entry/Immediate Delivery Application and ACE Cargo Release (CBP Form 3461 and 3461 ALT) collection of information, which collects the GBI when entry is made, has been approved by OMB under OMB control number 1651-0024.

VI. Evaluation Criteria

The test is intended to evaluate the feasibility of utilizing GBIs to address data gaps in the use of the MID, in addition to exploring opportunities to enhance supply chain traceability and visibility more broadly—including examining how CBP, PGAs, and the trade industry might leverage GBIs to comply with growing supply chain traceability needs. This will involve exploring the use of GBIs to accurately identify legal business entities, their different business locations and addresses, as well as their various functions and supply chain roles, based upon information derived from the unique D-U-N-S®, GLN, LEI, and Altana ID entity identifiers. The test aims to assist CBP in enforcing applicable laws and protecting the revenue, while fulfilling trade modernization efforts by assisting the agency in verifying the roles, functions and responsibilities that various entities play in a given participant's importation of merchandise. CBP's evaluation of the test, including the review of any comments submitted to CBP during the duration of the test, will be ongoing with a view to possible extension or expansion of the test.

CBP will evaluate whether the test: (1) improves foreign entity data for efficient deployment of enforcement resources, trade processing, risk management, and statistical integrity; (2) ensures U.S. Government access to foreign entity data; (3) institutionalizes a global, managed identification system; (4) implements a cost-effective solution; (5) obtains stakeholder buy-in; and (6) facilitates legal compliance across the U.S. Government. At the conclusion of the test, an evaluation will be conducted to assess the efficacy of the information received throughout the course of the test. The final results of the evaluation will be published in the Federal Register as required by section 101.9(b)(2) of the CBP regulations (19 CFR 101.9(b)(2)).

Should the GBI Test be successful and ultimately be codified under the CBP regulations, CBP anticipates that this data would greatly enhance ongoing trade entity identification and resolution, reduce risk, and improve compliance operations. CBP would also anticipate greater supply chain visibility and verified, validated information on legal entities, which will support better decision-making during customs clearance processes.

Susan S. Thomas,
Acting Executive Assistant Commissioner, Office of Trade.

[FR Doc. 2025-15060 Filed 8-7-25; 8:45 am]

BILLING CODE 9111-14-P